DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On April 27, 2018, OFAC determined that the property and interests in property of the following persons are blocked under the relevant sanctions authority listed below.

Individuals

BILLING CODE 4801-AL-P

Entity

1. ZARON BIO-TECH (ASIA) LIMITED, 20A, Kiu Fu Commercial Building, 300 Lockhart Road, Wan Chai, Hong Kong, Hong Kong; Business Registration Document # 52153976 (Hong Kong); Company Number 1448837 (Hong Kong) [SDNTK] (Linked To: ZHANG, Jian). Designated pursuant to section 805(b)(3) of the Kingpin Act, 21 U.S.C. 1904(b)(3), for being owned, controlled, or directed by, or acting for or on behalf of, Jian ZHANG.

Dated: April 27, 2018.
John E. Smith,
Director, Office of Foreign Assets Control.

[FR Doc. 2018-09300 Filed 5-1-18; 8:45 am]

BILLING CODE 4810-AL-C